NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR part 671), as amended by the Antarctic Science, Tourism and Conservation Act of 1996, has developed regulations for the establishment of a permit system for various activities in Antarctica and designation of certain animals and certain geographic areas a requiring special protection.

1. NSF issued a permit (ACA 2015-010) to Lockheed Martin Corporation on on October 31, 2014. The issued permit allows the permit holder to, as the contractor providing operational support for the United States Antarctic Program (USAP), be responsible for waste management activities for the USAP. A recent modification to this permit, dated November 7, 2016, allowed a change in permit holder from Lockheed Martin Corporation to Leidos Innovations Group (Leidos), 7400 South Tucson Way, Centennial, CO 80112.

Now the applicant proposes a permit modification to extend the expiration date of the permit from September 30, 2019 to October 31, 2019. The Environmental Officer has reviewed the modification request and has determined that the amendment is not a material change to the permit, and it will have a less than a minor or transitory impact.

Date of Permitted Activities: October 31, 2014-October 31, 2019.

The permit modification was issued on September 30, 2019.

Erika N. Davis,
Program Specialist, Office of Polar Programs.

[FR Doc. 2019-21773 Filed 10-4-19; 8:45 am]

BILLING CODE 7555-01-P